DEPARTMENT OF TRANSPORTATION

Federal Aviation Administration

Notice of Availability of a Final Environmental Impact Statement on the Potomac Consolidated Terminal Radar Approach Control (TRACON) Airspace Redesign

AGENCY: Federal Aviation, Administration, DOT.

ACTION: Notice of Availability of a Final Environmental Impact Statement.

SUMMARY: The Federal Aviation Administration (FAA) has released a Final Environmental Impact Statement (FEIS) for redesign of the airspace in the Baltimore-Washington area. The proposed action is to redesign the airspace in the Baltimore-Washington metropolitan area excluding noise abatement procedures. This involves developing new routes, altitudes and procedures to take advantage of the new Potomac Consolidated TRACON, improved aircraft performance, and emerging air traffic control technologies. The proposed action is not dependent on development at any of the airports in the study area.

The airspace redesign study encompasses the area within a 75-nautical mile radius centered on a radio navigational aid in Georgetown, within the District of Columbia. The study area comprises portions of five states—Delaware, Maryland, Pennsylvania, Virginia and West Virginia—and the entire District.

This EIS is tiered from an earlier EIS that evaluated environmental impacts that could result from a decision to physically consolidate the four Baltimore-Washington metropolitan areas TRACONs into a new building somewhere in the area. The first tier or “building EIS” resulted in FAA issuing a Record of Decision (ROD) on June 3, 1999. The ROD documented the decision to consolidate four existing TRACONs into a new facility at Vint Hill in Fauquier County, Virginia. Subsequent to the ROD, the decision was made to consolidate the Richmond TRACON into the PCT. However, the incorporation of the Richmond TRACON has no effect on the scope of the airspace redesign.

The purpose of this airspace redesign is to take full advantage of the benefits afforded by the newly consolidated TRACON facility by increasing air traffic efficiency and enhancing safety in the Baltimore-Washington metropolitan area.

Copies of the FEIS are available for review at major libraries in the study area. A summary of the FEIS can be viewed on the Internet at http://www.faa.gov/ats/potomac.

DATES: Written comments on the FEIS will be accepted until February 18, 2003. Written comments may be sent to: FAA Potomac TRACON, Air Traffic 2400, Attention: Fred Bankert, 3699 Macintosh Drive, Warrenton, VA 20187.

FOR FURTHER INFORMATION CONTACT: Potomac Consolidated TRACON (800) 762-9531, E-mail: 9-AEA-PTC-Comments@faa.gov.

SUPPLEMENTARY INFORMATION: A TRACON facility provides radar air traffic control services to aircraft operating on Instrument Flight Rules (IFR) and Visual Flight Rules (VFR) procedures generally beyond 5 miles and within 50 miles of the host airport at altitudes from the surface to approximately 17,000 feet. These distances and altitudes may vary depending on local conditions and infrastructural constraints such as adequate radar and radio frequency coverage. The primary functions of the TRACON is to provide a variety of air traffic control services to arrival, departure, and transient aircraft within its assigned airspace. These services include aircraft separation, in flight traffic advisories and navigational assistance. When fully operational, the Potomac Consolidated TRACON will provide terminal radar air traffic control services to the four major airports and a number of small reliever airports located within the Baltimore-Washington area. It will also provide service to the Richmond, VA airport.

This EIS considers four airspace redesign alternatives consisting of a No Action Alternative and three other alternatives that address changes in routes and altitudes for aircraft away from the close-in airport environment. Changes to initial departure of final arrival procedures are not proposed. Generally, aircraft would be three to five miles from the departure/arrival airport before the changes that are proposed for each alternative would take effect, with the exception of the No Action Alternative, which considers no changes to the existing airspace. None of the alternatives would produce significant environmental impact. Additionally, current noise abatement procedures at the airports would not be changed under any of the alternatives. The FEIS identifies Alternative 2 at the Preferred Alternative.

Dated: January 14, 2003 in Washington, DC.
Alan Hendry,
Program Director, Potomac Consolidated TRACON.

[FR Doc. 03-1352 Filed 1-21-03; 8:45 am]

BILLING CODE 4910-13-M